DEPARTMENT OF THE INTERIOR

Bureau of Land Management

[LLCOS05000 L51100000.GB0000 LVEMC12CC280]

Notice of Availability of the Record of Decision for the Federal Coal Lease Modifications COC-1362 and COC-67232 for the West Elk Mine Near Somerset, CO

AGENCY: Bureau of Land Management, Interior.

ACTION: Notice of availability.

SUMMARY: In accordance with the National Environmental Policy Act of 1969, the Bureau of Land Management (BLM) announces the availability of the Record of Decision (ROD) for the West Elk Mine lease modifications underlying National Forest System (NFS) lands included in the Federal Coal Lease Modifications COC-1362 and COC-67232 Final Environmental Impact Statement (EIS).

ADDRESSES: The document is available electronically on the following Web site: http://www.blm.gov/co/st/en/BLM_Information/nepa/ufo.html. Paper copies of the ROD are also available upon request from the BLM Uncompahgre Field Office, 2465 S. Townsend Ave., Montrose, CO 81401.

FOR FURTHER INFORMATION CONTACT: Mr. Desty Dyer, Mining Engineer; at 970-240-5300. Mr. Dyer's office is located at the BLM Uncompahgre Field Office 2465 S. Townsend Ave., Montrose, CO 81401. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The ROD covered by this Notice of Availability (NOA) is for modification Federal coal leases in Gunnison County, Colorado, administered by the BLM Uncompahgre Field Office. The BLM approves Alternative 3, to modify Mountain Coal Company's existing Federal coal lease COC-1362 by adding 921 acres and the Ark Land Companies existing Federal coal lease COC-67232 by adding 800 acres at the West Elk Mine. The lease modifications are located approximately 7 miles southeast of Somerset, Colorado, in portions of sections 10, 11, 14, 15, 22 and 23 of T. 14S., R. 90W., 6th PM in Gunnison County, Colorado. The quantity of mineable coal in both lease modifications would likely extend the existing operations approximately 19 months beyond those currently approved within Federal leases and an additional 16-17 months of mining coal on adjacent private lands could also be realized by access gained through the lease modification areas. The Environmental Protection Agency published a Federal Register notice announcing that the Final EIS was publicly available on August 10, 2012 (77 FR 47839).

The BLM's decision to offer the coal lease modifications is subject to appeal to the Interior Board of Land Appeals. Anyone wishing to appeal will have 30 days from this decision to appeal to the Board of Land Appeals, Office of the Secretary, in accordance with regulations at 43 CFR Part 4.

Authority: 40 CFR 1506.6.

Helen M. Hankins,
BLM Colorado State Director.

[FR Doc. 2012-31146 Filed 12-27-12; 8:45 am]

BILLING CODE 4310-JB-P